DEPARTMENT OF HEALTH AND HUMAN SERVICES

National Institutes of Health

Office of the Director; Notice of Establishment

Pursuant to the Federal Advisory Committee Act, as amended (5 U.S.C. App.), the Director, National Institutes of Health (NIH), announces the establishment of the National Asthma Education Prevention Program Coordinating Committee (NAEPP) as required by 424B of the Public Health Service Act, 42 U.S.C. 285b-7b, as amended.

The NAEPP's primary mission is to provide advice to the National Heart, Lung, and Blood Institute on matters concerning asthma and to facilitate the efficient and effective exchange of information on asthma activities among the member agencies and voluntary health organizations in order to enhance coordination of asthma-related programs and activities. The NAEPP will assist in increasing public understanding of the member agencies' activities, programs, policies, and research and will serve as a public forum for discussion of issues related to asthma.

It is determined that the NAEPP is in the public interest in connection with the performance of duties imposed on the NIH by statute, and that these duties can best be performed through the advice and counsel of this group.

Inquires may be directed to Jennifer Spaeth, Director, Office of Federal Advisory Committee Policy, Office of the Director, National Institutes of Health, 6701 Democracy Boulevard, Suite 1000, Bethesda, Maryland 20892 (Mail Code 4875), Telephone (301) 496-2123, or spaethj@od.nih.gov.

Dated: July 20, 2015.
Jennifer S. Spaeth,
Director, Office of Federal Advisory Committee Policy.

[FR Doc. 2015-18121 Filed 7-23-15; 8:45 am]

BILLING CODE 4140-01-P